DEPARTMENT OF THE INTERIOR

Bureau of Indian Affairs

25 CFR Part 293

RIN 1076-AE99

Class III Tribal State Gaming Compact Process

AGENCY: Bureau of Indian Affairs, Interior.

ACTION: Extension of comment period for proposed rule.

SUMMARY: On July 2, 2008, the Bureau of Indian Affairs (BIA) proposed a rule to establish procedures for Indian tribes and States to submit Tribal-State compacts and compact amendments, governing the conduct of class III gaming activities on the tribe's Indian lands located within that State, for review and approval by the Secretary of the Interior (see 73 FR 37907). This notice extends the comment period for that proposed rule by 20 days, to September 22, 2008.

DATES: The comment period for the proposed rule published on July 2, 2008 (73 FR 37907) is extended to September 22, 2008.

ADDRESSES: You may submit comments on the rule, identified by the number 1076-AE99, by any of the following methods:

• Federal e-rulemaking portal: http://www.regulations.gov. Follow the instructions for submitting comments.

• Fax: (202) 273-3153.

• Mail: Ms. Paula Hart, Acting Director, Office of Indian Gaming, Office of the Deputy Assistant Secretary—Policy and Economic Development, 1849 C Street, NW., Mail Stop 3657-MIB, Washington, DC 20240.

• Hand delivery: Office of Indian Gaming, Office of the Deputy Assistant Secretary—Policy and Economic Development, 1849 C Street, NW., Room 3657-MIB, Washington, DC, from 9 a.m. to 4 p.m., Monday through Friday.

Note that requests for comments on the rule and the information collection are separate. Comments on the information collection requirements should be sent to: Office of Management and Budget, Office of Information and Regulatory Affairs, Attention: Desk Officer for the Department of the Interior, by e-mail at http://www.OIRA_DOCKET@omb.eop.gov, or by facsimile at (202) 395-6566.

Please also send a copy of your comments on information collection requirements to the Office of Indian Gaming at the above address.

FOR FURTHER INFORMATION CONTACT: Paula Hart, Acting Director, Office of Indian Gaming, (202) 219-4066.

SUPPLEMENTARY INFORMATION: The Indian Gaming Regulatory Act (IGRA), 25 U.S.C. 2701-2721, was signed into law on October 17, 1988. IGRA, 25 U.S.C. 2710, authorizes class III gaming activities on Indian lands when authorized by an approved ordinance, located in a State that permits such gaming and conducted in conformance with a Tribal-State compact. IGRA, 25 U.S.C. 2710(d)(8)(A), (B) and (C), authorizes the Secretary to approve, disapprove or consider approved a Tribal-State compact or compact amendment and publish notice of that approval or considered approval in the Federal Register. The submission process for the Tribal-State compact or compact amendment is not clear. Therefore, BIA published a proposed rule on July 2, 2008 (73 FR 37907) to establish procedures for submitting Tribal-State compacts and compact amendments.

The authority to issue this document is vested in the Secretary of the Interior by 5 U.S.C. 301 and 25 U.S.C. 2, 9, and 2710. The Secretary has delegated this authority to the Assistant Secretary—Indian Affairs by part 209 of the Departmental Manual.

Dated: August 26, 2008.
George T. Skibine,
Acting Deputy Assistant Secretary for Policy and Economic Development—Indian Affairs.

[FR Doc. E8-20257 Filed 8-29-08; 8:45 am]

BILLING CODE 4310-02-P